DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-5:15 p.m. EST, February 14, 2007. 8 a.m.-12:30 p.m. EST, February 15, 2007.

Place: Centers for Disease Control and Prevention, 2500 Century Parkway, Atlanta, GA 30329.

Status: Open to the public, limited only by the space available.

Purpose: The mission of the Task Force is to develop and publish the Guide to Community Preventive Services (Community Guide), which is based on the best available scientific evidence and current expertise regarding essential public health and what works in the delivery of those services.

Matters to be discussed: Agenda items include: controlling obesity; worksite health promotion and the assessment of health risks with feedback; alcohol outlet density; asthma; updating existing Community Guide reviews; and dissemination activities and projects in which the Community Guide is used.

Agenda items are subject to change as priorities dictate.

Persons interested in reserving a space for this meeting should call Tony Pearson-Clarke at 404-498-0972 by close of business on February 9, 2007.

Contact person or additional information: Tony Pearson-Clarke, Community Guide Branch, Coordinating Center for Health Information and Service, National Center for Health Marking, Division of Health Communication and Marketing, 1600 Clifton Road, M/S E-69, Atlanta, GA 30333, phone: 404-498-0972.

Dated: January 31, 2007.
James D. Seligman,
Chief Information Officer, Centers for Disease Control and Prevention.

[FR Doc. E7-2078 Filed 2-7-07; 8:45 am]

BILLING CODE 4163-18-P